DEPARTMENT OF AGRICULTURE

Rural Utilities Service

Basin Electric Power Cooperative, Inc.: Notice of Intent To Hold Public Scoping Meeting and Prepare an Environmental Assessment

AGENCY: Rural Utilities Service, USDA.

ACTION: Notice of Intent to Hold Public Scoping Meeting and Prepare an Environmental Assessment.

SUMMARY: The Rural Utilities Service (RUS), an Agency delivering the United States Department of Agriculture (USDA) Rural Development Utilities Programs, hereinafter referred to as Rural Development and/or the Agency, intends to hold a public scoping meeting and prepare an Environmental Assessment (EA) in connection with possible impacts related to a project being proposed by Basin Electric Power Cooperative, Inc. (Basin Electric), of Bismarck, North Dakota. The proposal for construction and operation of a wind turbine generation facility referred to as the PrairieWinds-ND1 Project (Project), consists of a 77-turbine, 115 megawatt (MW) facility at a site near Minot, North Dakota.

DATES: Rural Development will conduct the public scoping meeting in an open-house format in order to provide information and solicit comments for the preparation of an EA. The meeting will be held on April 3, 2008, from 4 p.m. to 7 p.m., Central Daylight Time, North Central Research Extension Center, 5400 Highway 83 South, Minot, North Dakota (approximately 1 mile south of Minot on U.S. Highway 83).

ADDRESSES: To obtain copies of the EA, or for further information, contact: Barbara Britton, Environmental Protection Specialist, Water and Environmental Programs, Rural Development, Utilities Programs, 1400 Independence Ave., SW., Stop 1571, Washington, DC 20250-1571, telephone: (202) 720-1414 or e-mail: barbara.britton@wdc.usda.gov, or Kevin L. Solie, Basin Electric Power Cooperative, Inc., 1717 East Interstate Avenue, Bismarck, ND 58503-0564, telephone: (701) 355-5495 or e-mail: ksolie@bepc.com. A proposal development document—Alternative Evaluation and Site Selection Study—is available for public review at Rural Development or Basin Electric, at the addresses provided in this notice, and at the Minot Public Library, 516 2nd Ave., SW., Minot, North Dakota 58701.

SUPPLEMENTARY INFORMATION: Basin Electric proposes to construct a new 115 MW wind generation facility in north-central North Dakota. The Project would include seventy-seven (77) 1.5 MW wind turbine generators. A wind resource assessment study conducted in the area projects a net capacity factor in the upper thirty percent range. Power from the facility would be supplied to Basin Electric's customers through an interconnection with the Integrated System (IS), of which the Western Area Power Administration (Western) is the control area operator. Western is a federal power marketing agency with the U.S. Department of Energy (DOE). Western is being requested to participate as a cooperating agency in the Environmental Assessment. Basin Electric is requesting Rural Development to provide financing for the proposed project.

Alternatives to be considered by the Agency include no action, purchased power, load management, other renewable energy sources, and alternative site locations. Questions and comments regarding the proposed project should be received by Rural Development in writing by May 3, 2008, to ensure that they are considered in this environmental impact determination.

From information provided in the study mentioned above, and using input provided by government agencies, private organizations, and the public, Rural Development will prepare the EA. The EA will be available for review and comment for 30 days after distribution. Following the 30-day comment period, Rural Development will prepare either a Finding of No Significant Impact (FONSI) or an Environmental Impact Statement (EIS). Notices announcing the availability of the EA and a FONSI, as appropriate, will be published in the Federal Register and in local newspapers.

Any final action by the Agency related to the proposed projects will be subject to, and contingent upon, compliance with all relevant Federal, State and local environmental laws and regulations and completion of the environmental review requirements as prescribed in the USDA Rural Utilities Service Environmental Policies and Procedures (7 CFR part 1794).

Dated: March 13, 2008.
Mark S. Plank,
Director, Engineering and Environmental Staff, USDA/Rural Development/Utilities Programs.

[FR Doc. E8-5602 Filed 3-19-08; 8:45 am]

BILLING CODE 3410-15-P